DEPARTMENT OF ENERGY

Federal Energy Regulatory Commission

[Project No. 15244-000]

PacifiCorp; Notice of Preliminary Permit Application Accepted for Filing and Soliciting Comments, Motions To Intervene, and Competing Applications

On October 13, 2021, PacifiCorp filed an application for a preliminary permit, pursuant to section 4(f) of the Federal Power Act, proposing to study the feasibility of the Rocky Ridge Pumped Storage Project (Rocky Ridge Project or project), a closed-loop pumped storage project to be located south of the town of Glenrock in Converse and Natrona Counties, Wyoming. The proposed project would be located in part on federal lands administered by the U.S. Bureau of Land Management. The sole purpose of a preliminary permit, if issued, is to grant the permit holder priority to file a license application during the permit term. A preliminary permit does not authorize the permit holder to perform any land-disturbing activities or otherwise enter upon lands or waters owned by others without the owners' express permission.

Three alternatives are being considered for the Rocky Ridge Project. Alternative 1 would located about seven miles southeast of the town of Glenrock, Wyoming and consist of the following: (1) An upper reservoir with a surface area of 164 acres and a storage volume of approximately 3,032 acre-feet created by a 1,475-foot-long, 300-foot-high embankment dam; (2) a lower reservoir with a surface area of 63.5 acres and a storage volume of approximately 3,100 acre-feet created by a 4,600-foot-long, 60-foot-high embankment dam; (3) a 5.2-mile-long, 20-foot-diameter steel penstock connecting the upper reservoir with the powerhouse/pump station; (4) a 150-foot-long, 50-foot-wide concrete powerhouse/pump station located on the lower reservoir shoreline containing three 167-megawatt (MW) generating/pumping units for a total capacity of 500 MW; (5) a 4.2-mile-long, 230-kilovolt (kV) transmission line interconnecting to PacifiCorp's Amasa substation; (6) a 11.4-mile-long, 24-inch-diameter underground pipeline to divert water from the North Platte River near Glenrock to the project for initial and maintenance fill; and, (7) appurtenant facilities.

The majority of the facilities for Alternative 2 (i.e., project reservoirs, penstock, and powerhouse, etc.) would be located about three miles southwest of Alternative 1 and consist of the following: (1) An upper reservoir with a surface area of 202 acres and a storage volume of approximately 3,096 acre-feet created by a 1,750-foot-long, 150-foot-high embankment dam; (2) a lower reservoir with a surface area of 55.5 acres and a storage volume of approximately 3,100 acre-feet created by a 2,950-foot-long, 30-foot-high embankment dam; (3) a 1.6-mile-long, 20-foot-diameter steel penstock connecting the upper reservoir with the powerhouse/pump station; (4) a 150-foot-long, 50-foot-wide concrete powerhouse/pump station located on the lower reservoir shoreline containing three 167-MW generating/pumping units for a total capacity of 500 MW; (5) a 7-mile-long, 230-kV transmission line interconnecting to PacifiCorp's Amasa substation; (6) a 14.3-mile-long, 24-inch-diameter underground pipeline to divert water from the North Platte River near Glenrock to the project for initial and maintenance fill; and, (7) appurtenant facilities.

The majority of the facilities for Alternative 3 (i.e., project reservoirs, penstock, and powerhouse, etc.) would be located about three miles southwest of Alternative 2 and consist of the following: (1) An upper reservoir with either: (a) A surface area of 73.1 acres and a storage volume of approximately 3,615 acre-feet created by a 6,100-foot-long, 200-foot-high embankment dam or (b) with a surface area of 256 acres and a storage volume of approximately 3,700 acre-feet created by a 2,400-foot-long, 240-foot-high embankment dam; (2) a lower reservoir with a surface area of 73.1 acres and a storage volume of approximately 3,800 acre-feet created by a 4,900-foot-long, 130-foot-high embankment dam; (3) either a 1.7- or 4.2-mile-long, 20-foot steel penstock with a diameter of 20-feet connecting the upper reservoir with the powerhouse/pump station; (4) a 150-foot-long, 50-foot-wide concrete powerhouse/pump station located on the lower reservoir shoreline containing three 167-MW generating/pumping units for a total capacity of 500 MW; (5) a 10.1-mile-long, 230-kV transmission line interconnecting to PacifiCorp's Amasa substation; (6) a 17.8-mile-long, 24-inch-diameter underground pipeline to divert water from the North Platte River near Glenrock to the project for initial and maintenance fill; and, (7) appurtenant facilities.

The estimated annual generation of the Rocky Ridge Project would be 1,460 gigawatt-hours.

Applicant Contact: Tim Hemstreet, Managing Director, Renewable Energy Development, PacifiCorp, 825 NE Multnomah, Suite 1800, Portland, OR 97232; email: Tim.Hemstreet@pacificorp.com; phone: (503) 813-6170.

FERC Contact: John Matkowski; email: john.matkowski@ferc.gov; phone: (202) 502-8576.

Deadline for filing comments, motions to intervene, competing applications (without notices of intent), or notices of intent to file competing applications: 60 days from the issuance of this notice. Competing applications and notices of intent must meet the requirements of 18 CFR 4.36.

The Commission strongly encourages electronic filing. Please file comments, motions to intervene, notices of intent, and competing applications using the Commission's eFiling system at http://www.ferc.gov/docs-filing/efiling.asp. Commenters can submit brief comments up to 6,000 characters, without prior registration, using the eComment system at http://www.ferc.gov/docs-filing/ecomment.asp. You must include your name and contact information at the end of your comments. In lieu of electronic filing, you may submit a paper copy. Submissions sent via the U.S. Postal Service must be addressed to: Kimberly D. Bose, Secretary, Federal Energy Regulatory Commission, 888 First Street NE, Room 1A, Washington, DC 20426. Submissions sent via any other carrier must be addressed to: Kimberly D. Bose, Secretary, Federal Energy Regulatory Commission, 12225 Wilkins Avenue, Rockville, Maryland 20852. The first page of any filing should include docket number P-15244-000.

More information about this project, including a copy of the application, can be viewed or printed on the “eLibrary” link of Commission's website at http://www.ferc.gov/docs-filing/elibrary.asp. Enter the docket number (P-15244) in the docket number field to access the document. For assistance, contact FERC Online Support.

Dated: January 11, 2022.
Kimberly D. Bose,
Secretary.

[FR Doc. 2022-00814 Filed 1-14-22; 8:45 am]

BILLING CODE 6717-01-P